ENVIRONMENTAL PROTECTION AGENCY

[ER-FRL-6681-4]

Environmental Impacts Statements; Notice of Availability

Responsible Agency: Office of Federal Activities, General Information (202) 564-7167 or http://www.epa.gov/compliance/nepa/.

Weekly receipt of Environmental Impact Statements

Filed 11/13/2006 through 11/17/2006

Pursuant to 40 CFR 1506.9.

EIS No. 20060474, Final EIS, BLM, NM, Kasha-Katuwe Tent Rocks National Monument Resource Management Plan, Implementation, Rio Puerco Field Office, Sandoval County, NM, Wait Period Ends: 12/26/2006, Contact: John Bristol 505-761-8755.

EIS No. 20060475, Draft EIS, SFW, TX, Texas Chenier Plain National Wildlife Refuge Complex, Development of a 15-Year Management Plan (Comprehensive Conservation Plan) for Refuge Complex, and Expansion of the Approval Land Acquisition Boundaries (Land Protection Plan) for the Four Refuges: Moody, Anahuac, McFaddin and Texas Point National Wildlife Refuges, Chambers, Jefferson and Galveston Counties, TX, Comment Period Ends: 01/16/2007, Contact: Stephanie Nash 703-358-2183.

EIS No. 20060476, Final EIS, SFW, CA, Aquatic Habitat Conservation Plan and Candidate Conservation Agreement with Assurances to Conserve Habitat for and Mitigate Impacts on Six Aquatic Species, USFWS Enhancement of Survival Permit and an USNMF Incidental Take Permit Issuance, Humboldt and Del Norte Counties, CA, Wait Period Ends: 12/26/2006, Contact: Amedee Brickey 707-822-7201.

EIS No. 20060477, Draft Supplement, AFS, 00, Southern Rockies Canada Lynx Amendment, Updated Information, Incorporating Management Direction for Canada Lynx Habitat by Amending Land and Resource Management Plans, for Arapaho-Roosevelt, Pike-San Isabel, Grand Mesa-Uncompahgre-Gunnison, San Juan, Rio Grande and Medicine Bow-Routt National Forests, Implementation, CO and WY, Comment Period Ends: 02/21/2007, Contact: Lois Pfeffer 559-359-7023.

EIS No. 20060478, Draft EIS, COE, CA, Success Dam Seismic Remediation Dam Safety Project, Proposes to Remediate Deficiencies in the Dam's Foundation, Tulare River, Tulare County, CA, Comment Period Ends: 01/08/2007, Contact: Matt Davis 916-557-6708.

EIS No. 20060479, Draft EIS, FRC, NY, Broadwater Liquefied Natural Gas (LNG) Project, Construction and Operation a Natural Gas Pipeline Facilities, (Docket Nos. CP06-54, et al.), Long Island Sound, NY, Comment Period Ends: 01/23/2007 Contact: Bryan Lee 1-866-208-3372.

EIS No. 20060480, Draft EIS, BIA, NY, Oneida Nation of New York Conveyance of Lands into Trust, Proposes to Transfer 17,370 Acre of Fee Land into Federal Trust Status, Oneida, Madison and New York Counties, NY, Comment Period Ends: 01/08/2007, Contact: Kurt G. Chandler 615-564-6832.

EIS No. 20060481, Draft EIS, AFS, OR, Crawford Project and Proposed Nonsignificant Forest Plan Amendments, Commercial Timber Harvest, Prescribed Burning, Adjustments to Dedicated Old Growth Areas, and Road Closure and Decommissioning Activities, Implementation, Blue Mountain Ranger District, Malheur National Forest, Grant County, OR, Comment Period Ends: 01/08/2007, Contact: Ryan Falk 541-820-3800.

EIS No. 20060482, Final EIS, FRC, WA, Priest Rapids Hydroelectric Project, FERC Project #2114-116 Relicensing Application for New License, Columbia River, Grant, Yakima, Kittitas, Douglas, Benton, and Chelan Counties, WA, Wait Period Ends: 12/26/2006, Contact: Bryan Lee 1-866-208-3372.

EIS No. 20060483, Final EIS, UAF, GU, Andersen Air Force Base (AFB), Establish and Operate an Intelligence, Surveillance, Reconnasissance, and Strike (ISR/Strike) Capability, Guam, Wait Period Ends: 12/26/2006, Contact: Jonathan Wald 671-366-2101.

EIS No. 20060484, Final EIS, NAS, 00, Mars Science Laboratory Mission (MSL), To Conduct Comprehensive Science on the Surface of Mars and Demonstrate Technological Advancements in the Exploration of Mars, Using a Radioisotope Power Source in 2009 from Cape Canaveral Air Force Station, FL, Wait Period Ends: 12/26/2006, Contact: Mark R. Dahl 202-358-4800.

EIS No. 20060485, Final EIS, NOA, 00, Programmatic—Codified Regulations at 50 CFR 300 Subparts A and G Implementing Conservation and Management Measures Adopted by the Commission for the Conservation of Antarctic Marine Living Resources, Wait Period Ends: 12/26/2006, Contact: Robert B. Gorrell 301-713-2341.

Amended Notices

EIS No. 20060312, Draft EIS, AFS, CA, SPI Road Project, Construction of an Access Road Across National Forest Land, Special Use Permit, Six Rivers National Forest, Lower Trinity Ranger District, Trinity County, CA, Comment Period Ends: 01/08/2007, Contact: Katherine Worn 707-441-3561 Revision to FR Notice Published 07/28/2006 Reopening Comment Period from 09/11/2006 to 01/08/2007.

EIS No. 20060395, Draft EIS, FRC, 00, Klamath Hydroelectric Project, Continued Operation for Hydropower License FERC No. 2082-27, Klamath River, Klamath County, OR and Siskiyou County, CA, Comment Period Ends: 12/01/2006, Contact: John Mudre 202-502-8902. Revision to FR Notice Published 10/06/2006: Extending Comment Period from 11/24/2006 to 12/01/2006.

Dated: November 20, 2006.
Ken Mittelholtz,
Environmental Protection Specialist, Office of Federal Activities.

[FR Doc. E6-19869 Filed 11-22-06; 8:45 am]

BILLING CODE 6560-50-P